DEPARTMENT OF COMMERCE

International Trade Administration

(A-583-830)

Stainless Steel Plate in Coils from Taiwan; Final Rescission of Antidumping Duty Administrative Review

AGENCY: Import Administration, International Trade Administration, Department of Commerce.

EFFECTIVE DATE: December 9, 2005.

FOR FURTHER INFORMATION CONTACT: Elizabeth Eastwood or Nichole Zink, AD/CVD Operations, Office 2, Import Administration, International Trade Administration, U.S. Department of Commerce, 14th Street and Constitution Avenue, NW., Washington, DC, 20230; telephone (202) 482-3874 or (202) 482-0049, respectively.

SUPPLEMENTARY INFORMATION:

Background

This review covers the following fifteen manufacturers/exporters: Chain Chon Industrial Co., Ltd., Chang Mien Industries Co., Ltd., Chien Shing Stainless Steel Co., Ltd., China Steel Corporation, East Tack Enterprise Co., Goang Jau Shing Enterprise Co., Ltd., PFP Taiwan Co., Ltd., Shing Shong Ta Metal Ind. Co., Ltd., Sinkang Industries, Ltd., Ta Chen Stainless Pipe Ltd. (Ta Chen), Tang Eng Iron Works Co., Ltd., Yieh Loong Enterprise Co., Yieh Mau Corp., Yieh Trading Co., and Yieh United Steel Corp.

On June 7, 2005, the Department published in the Federal Register the preliminary rescission of administrative review on stainless steel plate in coils from Taiwan. See Stainless Steel Plate in Coils from Taiwan; Preliminary Rescission of Antidumping Duty Administrative Review, 70 FR 33083 (June 7, 2005) (Preliminary Results).

We invited parties to comment on our preliminary rescission of this administrative review. In July 2005, we received a case brief from the petitioners (Allegheny Ludlum Corp., United Auto Workers Local 3303, Zanesville Armco Independent Organization, the United Steelworkers of America, and AFL-CIO/CLC).

On October 5, 2005, the Department postponed the final results of the administrative review. See Stainless Steel Plate in Coils from Taiwan; Notice of Extension of Time Limits for Final Results of Antidumping Duty Administrative Review, 70 FR 58189 (Oct. 5, 2005).

On October 31, 2005, we placed new factual information on the record of this administrative review, and we invited parties to comment on it. On November 7, 2005, the petitioners submitted a letter in accordance with this request. However, on November 10, 2005, we rejected the petitioners' submission because we determined that it was not directly related to the new factual information, but instead contained both new information and argumentation related to the general issue raised in their case brief. Therefore, we found that the petitioners' submission was unresponsive and thus it constituted untimely filed new factual information and argument pursuant to 19 CFR 351.301(b)(2).

After examining the information on the record, we continue to find that none of the companies noted above had any entries of subject merchandise during this period of review (POR). Consequently, in accordance with 19 CFR 351.213(d)(3) and consistent with our practice, we are rescinding this administrative review. For further discussion, see the “Rescission of Review” section of this notice, below. See also Comment 1 of the “Issues and Decision Memorandum” (Decision Memo) from Stephen J. Claeys, Deputy Assistant Secretary for Import Administration, to Joseph A. Spetrini, Acting Assistant Secretary for Import Administration, dated December 5, 2005.

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.), provided that it maintains the specified dimensions of plate following such processing. Excluded from the scope of this order are the following: (1) plate not in coils, (2) plate that is not annealed or otherwise heat treated and pickled or otherwise descaled, (3) sheet and strip, and (4) flat bars.

The merchandise subject to this order is currently classifiable in the Harmonized Tariff Schedule of the United States (HTSUS) at subheadings: 7219110030, 7219110060, 7219120006, 7219120021, 7219120026, 7219120051, 7219120056, 7219120066, 7219120071, 7219120081, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTSUS subheadings are provided for convenience and customs purposes, the written description of the merchandise subject to this order is dispositive.

Period of Review

The POR is May 1, 2003, through April 30, 2004.

Rescission of Review

As noted above, none of the companies listed in this review had any shipments and/or entries of subject merchandise into the United States during the POR. We confirmed this with Customs and Border Protections (CBP) data. Therefore, in accordance with 19 CFR 351.213(d)(3) and consistent with the Department's practice, we are rescinding our review of the antidumping duty order on stainless steel plate in coils from Taiwan for the period of May 1, 2003, through April 30, 2004. See, e.g., Certain Steel Concrete Reinforcing Bars From Turkey; Final Results, Rescission of Antidumping Duty Administrative Review in Part, and Determination To Revoke in Part, 70 FR 67665, 67666 (Nov. 8, 2005).

We note that in Brake Rotors From the People's Republic of China: Final Results and Partial Rescission of the Seventh Administrative Review; Final Results of the Eleventh New Shipper Review, 70 FR 69937 (Nov. 18, 2005) (Brake Rotors from the PRC) and accompanying Issues and Decision Memorandum at Comment 8, the Department recently stated that it will not rely on CBP data as a “dispositive source of data on company exports. Accordingly, it is the responsibility of the respondent to report to the Department that it has not made any U.S. shipments.” Because the Department previously relied on CBP data in this proceeding to demonstrate that the respondents made no U.S. shipments of subject merchandise during the POR, we will continue to do so for this final rescission. In future segments of this proceeding, however, the Department will apply the practice set forth in Brake Rotors from the PRC.

Analysis of Comments Received

All issues raised in the case briefs by parties to this administrative review and to which we have responded are listed in the Appendix to this notice and addressed in the Decision Memo, which is adopted by this notice. Parties can find a complete discussion of all issues raised in this review and the corresponding recommendations in this public memorandum, which is on file in the Central Records Unit, room B-099, of the main Department building.

In addition, a complete version of the Decision Memo can be accessed directly on the Department's website at http://ia.ita.doc.gov/frn. The paper copy and electronic version of the Decision Memo are identical in content.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination and notice in accordance with sections 751(a)(1) and 777(i) of the Act.

Dated: December 5, 2005.
Joseph A. Spetrini,
Acting Assistant Secretary for Import Administration.

Appendix - Issues in Decision Memorandum

Comment

1. Entries by Affiliated Parties

[FR Doc. 05-23877 Filed 12-8-05; 8:45 am]

BILLING CODE 3510-DS-S